DEPARTMENT OF STATE

[Public Notice: 11580]

Notice of Public Meeting in Preparation for International Cybercrime Treaty Negotiations

The Department of State will conduct a public meeting at 10:00 a.m. on November 17 by way of teleconference. Members of the public may participate up to the capacity of the video conferencing platform, which will handle 3,000 participants. RSVPs to Ms. Madeline Murphy Hall, by email at MurphyHallM@state.gov, are encouraged but not required.

To access the meeting, participants should follow this link: https://statedept.webex.com/statedept/j.php?MTID=m7d251d4ffeda06ee34d78ad17c3c7f0b.

The primary purpose of this initial public meeting is to prepare for the first session of the Open-Ended Ad Hoc Intergovernmental Committee of Experts (AHC) to elaborate a comprehensive international convention on countering the use of information and communications technologies for criminal purposes, established by UN General Assembly Resolution 74/247, to be held in New York from Monday, January 17, 2022 to Friday, January 28, 2022.

The agenda items to be considered at the public meeting relate to the overall process of the AHC and considerations around the substance of the new international convention, with particular attention to the focus areas planned for the first session of the AHC. As of the publication of this notice, the agenda for the first session of the AHC has not been finalized.

—Modalities and schedule of the AHC negotiations

—Scope, objectives, and structure of the convention

—Participation of other stakeholders in the AHC

—Other business

Please note: Should there be any changes in the agenda, it will be reported to those who RSVP and those in attendance at the meeting.

Those who plan to participate may contact the meeting coordinator, Ms. Madeline Murphy Hall, by email at MurphyHallM@state.gov or by phone at (202) 286-3142. Members of the public needing reasonable accommodation should advise Ms. Murphy-Hall not later than November 12. Requests made after that date will be considered, but might not be possible to fulfill.

Additional information regarding this and other AHC session may be found at: https://www.unodc.org/unodc/en/cybercrime/ad_hoc_committee/home.

Authority: 5 U.S.C. 551 et seq. and 22 U.S.C. 2656.

Theadora S. Bouffard,
Branch Chief for Multilateral Affairs, Office of Global Programs and Policy, Department of State.

[FR Doc. 2021-24817 Filed 11-9-21; 11:15 am]

BILLING CODE 4710-17-P